DEPARTMENT OF DEFENSE

Department of the Air Force

[USAF-2008-0001]

Privacy Act of 1974 System of Records

AGENCY: Department of Air Force, DOD.

ACTION: Notice to Amend a System of Records.

SUMMARY: The Department of Air Force proposes to amend a system of records to its inventory of record systems subject to the Privacy Act of 1974 (5 U.S.C. 552a), as amended.

DATES: The changes will be effective on March 7, 2008, unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: January 31, 2008.
C.R. Choate,
Alternate OSD Federal Register Liaison Officer, Department of Defense.

DUSDA 13

SYSTEM NAME:

War Souvenir Registration/Authorization (February 27, 2007, 72 FR 8697).

CHANGES:

* * * * *

SYSTEM IDENTIFIER:

Delete entry and replace with “F024 AF USTRANSCOM A.”

* * * * *

F024 AF USTRANSCOM A

SYSTEM NAME:

War Souvenir Registration/Authorization.

SYSTEM LOCATION:

United States Transportation Command (USTRANSCOM), ATTN: TCJ5/4-PT, 508 Scott Drive, Scott AFB, IL 62225-5357.

CATEGORIES OF INDIVIDUALS COVERED BY THE SYSTEM:

Military and DoD civilian personal serving in overseas theaters.

CATEGORIES OF RECORDS IN THE SYSTEM:

Name, Social Security Number (SSN), rank and/or grade, Organization and/or unit, home address, war souvenir description, and overseas theater.

AUTHORITY FOR MAINTENANCE OF THE SYSTEM:

10 U.S.C. Part IV, Chapter 153, Sec. 2579; DoDD 5030.40, DoD Customs and Border Clearance Program; DoD 4500.9R Defense Transportation Regulation, Part V DoD Customs and Border Clearance Policies and Procedures; and E.O. 9397 (SSN).

PURPOSE(S):

To register and authorize an individual to retain a war souvenir and to return the item to the United States.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 552a(b)(3) as follows:

The DoD “Blanket Routine Uses” set forth at the beginning of Department of Air Force's compilation of systems of records notices apply to this system.

POLICIES AND PRACTICES FOR STORING, RETRIEVING, ACCESSING, RETAINING, AND DISPOSING OF RECORDS IN THE SYSTEM:

STORAGE:

Paper in file folders.

RETRIEVABILITY:

Name and Social Security Number (SSN).

SAFEGUARDS:

Access to the records is limited to those who require the records in the performance of their official duties. Physical entry is restricted by the use of locks, guards, and administrative procedures.

RETENTION AND DISPOSAL:

Disposition pending approval of records disposition schedule by the National Records and Administration Agency.

SYSTEM MANAGER(S) AND ADDRESS:

United States Transportation Command (USTRANSCOM), ATTN: TCJ5/4-PT—Transportation Specialist, 508 Scott Drive, Scott AFB, IL 62225-5357.

NOTIFICATION PROCEDURE:

Individuals seeking to determine whether information about themselves is contained in this system of records should address written inquiries to the United States Transportation Command (USTRANSCOM), ATTN: TCJ5/4-PT-Transportation Specialist, 508 Scott Drive, Scott AFB, IL 62225-5357.

Requests should contain individual's name, address, Social Security Number (SSN), unit, Company Commander/Contracting Officer's Representative, and date requested war souvenir registration.

RECORD ACCESS PROCEDURES:

Individuals seeking access to information about themselves contained in this system of records should address written inquiries to the United States Transportation Command (USTRANSCOM), ATTN: TCJ5/4-PT-Transportation Specialist, 508 Scott Drive, Scott AFB, IL 62225-5357.

Requests should contain individual's name, address, Social Security Number (SSN), unit, Company Commander/Contracting Officer's Representative, and date requested war souvenir registration.

RECORD SOURCE CATEGORIES:

From the individual.

EXEMPTIONS CLAIMED FOR THE SYSTEM:

None.

[FR Doc. E8-2145 Filed 2-5-08; 8:45 am]

BILLING CODE 5001-06-P